DEPARTMENT OF AGRICULTURE

Natural Resources Conservation Service

[Docket No. NRCS-2014-0010]

Notice of Meeting of the Agricultural Air Quality Task Force

AGENCY: Natural Resources Conservation Service, USDA.

ACTION: Notice of meeting.

SUMMARY: The Agricultural Air Quality Task Force (AAQTF) will meet to continue discussions on critical air quality issues in relation to agriculture. Special emphasis will be placed on obtaining a greater understanding about the relationship between agricultural production and air quality. The meeting is open to the public, and a draft agenda is included in this notice.

DATES: The AAQTF meeting will convene on Wednesday, August 20, 2014, from 8:00 a.m. to 5:00 p.m. CDT, and Thursday, August 21, 2014, from 8:00 a.m. to 12:00 noon. A public comment period will be held on August 21.

Individuals wishing to make oral presentations should contact Greg Johnson at (503) 273-2424 or email: greg.johnson@por.usda.gov no later than August 6, 2014, and bring 35 copies of any material they would like distributed to the meeting.

Written material intended for AAQTF member consideration prior to the meeting must be received by Greg Johnson, Designated Federal Official, USDA, NRCS, 1201 Lloyd Boulevard, Suite 1000, Portland Oregon 97232 no later than August 6, 2014.

ADDRESSES: The meeting will be held at the Texas A&M University Memorial Student Center, College Station, Texas (http://www.mscc.tamu.edu/aboutus/parking.html).

FOR FURTHER INFORMATION CONTACT: Questions and comments should be directed to Dr. Greg Johnson, Designated Federal Official, USDA, NRCS, 1201 Lloyd Boulevard, Suite 1000, Portland Oregon 97232; telephone: (503) 273-2424; fax: (503) 273-2401; email: greg.johnson@por.usda.gov.

SUPPLEMENTARY INFORMATION: Notice of this meeting is given under the Federal Advisory Committee Act, 5 U.S.C. App. 2. Additional information concerning AAQTF, including any revisions to the meeting agenda that may occur after this Federal Register Notice is published, may be found at: www.nrcs.usda.gov/wps/portal/nrcs/detail/national/air/taskforce.

Draft Agenda

Meeting of the AAQTF

August 20-21, 2014

College Station, Texas

A. Welcome remarks and introductions

B. Overview of agriculture and air quality in Texas

C. Environmental Protection Agency regulatory review for agriculture

D. Wildfire risk assessment and prescribed burning

E. Review of climate change regulatory status and agriculture

F. AAQTF subcommittee deliberations and recommendations

G. Updates from USDA agencies (FS, NRCS, NIFA, and ARS)

H. Selected agricultural air quality research presentations

I. Public input. Individual presentations will be limited to 5 minutes).

The timing of events in the agenda is subject to change to accommodate changing schedules of expected speakers or extended discussions.

Procedural

This meeting is open to the public. At the discretion of the Chair, members of the public may provide oral presentations during the meeting. Those persons wishing to make oral presentations should notify Greg Johnson at (503) 273-2424 no later than August 6, 2014. Those wishing to distribute written materials at the meeting (in conjunction with spoken comments) must bring 35 copies of the materials with them. Written materials for distribution to AAQTF members prior to the meeting must be received by Dr. Johnson no later than August 6, 2014.

Information on Services for Individuals With Disabilities

For information on facilities or services for individuals with disabilities or to request special assistance at the meeting, please contact Greg Johnson. USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

Signed this 24th day of July 2014, in Washington, DC.
Jason A. Weller,
Chief, Natural Resources Conservation Service.

[FR Doc. 2014-17992 Filed 7-30-14; 8:45 am]

BILLING CODE 3410-16-P